DEPARTMENT OF DEFENSE

Defense Acquisition Regulations System

48 CFR Parts 204 and 217

RIN 0750-AG05

Defense Federal Acquisition Regulation Supplement; Clarification of Central Contractor Registration and Procurement Instrument Identification Data Requirements (DFARS Case 2008-D010)

AGENCY: Defense Acquisition Regulations System, Department of Defense (DoD).

ACTION: Final rule.

SUMMARY: DoD has issued a final rule amending the Defense Federal Acquisition Regulation Supplement (DFARS) to address requirements for ensuring the accuracy of contractor information in the Central Contractor Registration (CCR) database and in contract documents. Additionally, the rule clarifies requirements for proper assignment of procurement instrument identification numbers.

DATES: Effective Date: July 29, 2009.

FOR FURTHER INFORMATION CONTACT: Mr. Julian Thrash, Defense Acquisition Regulations System, OUSD (AT&L) DPAP (DARS), IMD 3D139, 3062 Defense Pentagon, Washington, DC 20301-3062. Telephone 703-602-0310; facsimile 703-602-7887. Please cite DFARS Case 2008-D010.

SUPPLEMENTARY INFORMATION:

A. Background

This final rule reinforces requirements for use and maintenance of accurate contractor information, to permit proper identification and tracking of contract data through DoD's business processes. The DFARS changes address requirements for—

○ Ensuring that contract documents contain contractor information that is accurate and consistent with the information in the CCR database; and

○ Proper assignment of procurement instrument identification numbers.

DoD published a proposed rule at 73 FR 62239 on October 20, 2008. Three sources submitted comments on the proposed rule. A discussion of the comments is provided below.

1. Comment: The proposed change to positions 7 and 8 of the procurement instrument identification number, from “the last two digits of the fiscal year in which the PII number was assigned” to “the last two digits of the fiscal year in which the procurement instrument is awarded” does not recognize that procurement instrument identification numbers are used for preaward solicitation actions as well as contract awards.

DoD Response: To provide for the use of procurement instrument identification numbers for solicitations as well as contract awards, the final rule specifies that the seventh and eighth positions of the PIIN will be the last two digits of the fiscal year in which the procurement instrument is issued or awarded.

2. Comment: The proposed language at 204.1103(1)(ii)(B), which requires that a contracting officer exercise an option or issue a contract modification only after obsolete or incorrect CCR information has been updated, should not be adopted. Such delays in the exercise of options or issuance of modifications could result in the loss of funds or an undesired interruption of services.

DoD Response: The final rule permits exercise of an option or issuance of a modification (other than a unilateral modification making an administrative change) only after determining that the contractor's information in the Central Contractor Registration database is active and the contractor's Data Universal Numbering System number, Commercial and Government Entity code, name, and physical address are accurately reflected in the contract document. Contractors already are required to enter and maintain their information in the CCR database as a condition of contract award. Therefore, DoD does not expect the requirements of this rule to prevent timely execution of contract actions.

3. Comment: DFARS 204.1103 should specifically state that contract documents include the contractor's physical address as the official address. CCR maintains three addresses: physical address, mailing address, and remittance address. Use of the contractor's physical address is necessary to ensure assignment of the appropriate Defense Contract Management Agency contract administration office.

DoD Response: The rule has been amended to require use of the contractor's physical address on contract documents.

4. Comment: The rule should clearly state that the contract will be awarded to the Commercial and Government Entity (CAGE) code location from which the company will be managing the contract, i.e., the physical location from which the company will make executive decisions regarding the contract, including, but not limited to, signing the contract and modifications. The contract administration office should be that responsible for the physical location from which the prime contractor will manage its contract, not from the place of performance.

DoD Response: The rule requires that contract documents contain the contractor's legal or “doing business as” name, physical address, and CAGE code information as specified in the CCR database at the time of contract award. This may or may not be the location where the contractor manages the contract. To permit flexibility in Government contract management and oversight, the regulations do not direct the use of a specific contract administration office.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule reinforces existing requirements for accuracy of contract information.

C. Paperwork Reduction Act

The Paperwork Reduction Act does not apply, because the rule does not impose any information collection requirements that require the approval of the Office of Management and Budget under 44 U.S.C. 3501, et seq.

List of Subjects in 48 CFR Parts 204 and 217

Government procurement.

Michele P. Peterson,
Editor, Defense Acquisition Regulations System.

Therefore, 48 CFR Parts 204 and 217 are amended as follows:

1. The authority citation for 48 CFR Parts 204 and 217 continues to read as follows:

Authority: 41 U.S.C. 421 and 48 CFR Chapter 1.

PART 204—ADMINISTRATIVE MATTERS

2. Section 204.1103 is revised to read as follows:

204.1103 Procedures.

(1) On contract award documents, use the contractor's legal or “doing business as” name and physical address information as recorded in the Central Contractor Registration (CCR) database at the time of award.

(2) When making a determination to exercise an option, or at any other time before issuing a modification other than a unilateral modification making an administrative change, ensure that—

(i) The contractor's record is active in the CCR database; and

(ii) The contractor's Data Universal Numbering System (DUNS) number, Commercial and Government Entity (CAGE) code, name, and physical address are accurately reflected in the contract document.

(3) At any time, if the DUNS number, CAGE code, contractor name, or physical address on a contract no longer matches the information on the contractor's record in the CCR database, the contracting officer shall process a novation or change-of-name agreement, or an address change, as appropriate.

(4) See PGI 204.1103 for additional requirements relating to use of information in the CCR database.

(5) On contractual documents transmitted to the payment office, provide the CAGE code, instead of the DUNS number or DUNS+4 number, in accordance with agency procedures.

3. Section 204.7003 is amended by revising paragraphs (a)(2), (a)(3)(iii), (a)(3)(viii), and (b) to read as follows:

204.7003 Basic PII number.

(a) * * *

(2) Positions 7 through 8. The seventh and eighth positions are the last two digits of the fiscal year in which the procurement instrument is issued or awarded.

(3) * * *

(iii) Contracts of all types except indefinite delivery contracts, facilities contracts, sales contracts, and contracts placed with or through other Government departments or agencies or against contracts placed by such departments or agencies outside the DoD. Do not use this code for contracts or agreements with provisions for orders or calls—C

* * * * *

(viii) Agreements, including basic agreements and loan agreements, but excluding blanket purchase agreements, basic ordering agreements, and leases. Do not use this code for contracts or agreements with provisions for orders or calls—H

* * * * *

(b) Illustration of PII number. The following illustrates a properly configured PII number:

PART 217—SPECIAL CONTRACTING METHODS

4. Section 217.207 is added to read as follows:

217.207 Exercise of options.

(c) In addition to the requirements at FAR 17.207(c), exercise an option only after determining that the contractor's record in the Central Contractor Registration database is active and the contractor's Data Universal Numbering System (DUNS) number, Commercial and Government Entity (CAGE) code, name, and physical address are accurately reflected in the contract document.

[FR Doc. E9-17952 Filed 7-28-09; 8:45 am]

BILLING CODE 5001-08-P